DEPARTMENT OF STATE

[Public Notice 8101]

Application for a Presidential Permit To Operate and Maintain Pipeline Facilities on the Border of the United States and Canada

AGENCY: Department of State.

ACTION: Notice of Receipt of Application for a Presidential Permit to Operate and Maintain Pipeline Facilities on the Border of the United States and Canada.

SUMMARY: Notice is hereby given that the Department of State (DOS) has received an application from Plains LPG Services, L.P. (“Plains LPG”) to operate and maintain pipeline facilities it has acquired at the U.S.-Canada border (the EDS Pipeline border facilities). The EDS pipeline, a single 10 inch diameter pipe, crosses the United States- Canada border underneath the Detroit River, between Detroit Michigan in the United States and the city of Windsor, in Ontario, Canada. The EDS pipeline was one of two parallel pipelines and an electric cable that were constructed by American Brine, Inc., and operated, and maintained most recently by Dome Petroleum pursuant to earlier Presidential Permits. Plains LPG requests issuance of a new permit reflecting its acquisition and sole ownership of the EDS Pipeline border facilities and allowing Plains LPG to operate and maintain those facilities for use in transporting liquefied hydrocarbons. The Plains application will supersede a joint application made by Dome Petroleum Corporation and Kinder Morgan Cochin, LLC on June 7, 2010 as it relates to the EDS Pipeline border facilities.

Plains LPG is a Texas limited partnership with its principle place of business at 333 Clay Street, Suite 1600, Houston Texas, 77002. Plains LPG is a subsidiary of Plains All American Pipeline, L.P. (“Plains”), a publicly traded master limited partnership organized under the laws of the State of Delaware and headquartered in Houston, Texas.

Plains LPG acquired the EDS Pipeline following the indirect acquisition of Dome Petroleum LLC (formerly known as Dome Petroleum Corp.) by Plains LPG's affiliate, Plains Midstream Canada ULC (Plains Midstream). Specifically, Plains Midstream acquired BP Canada Energy Corporation, which owned Dome Petroleum LLC. Immediately following the acquisition by Plains Midstream, Dome Petroleum LLC became Plains Midstream Superior LLC, which subsequently merged with Plains LPG. That acquisition and merger resulted in the allocation and transfer of the EDS Pipeline border facilities to Plains LPG.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new Presidential Permit reflecting the change in ownership or control of the EDS Pipeline border facilities would be in the U.S. national interest.

DATES: Interested parties are invited to submit comments not later than 30 days after the publication date of this notice by email to Plainslpgservicespermit@state.gov with regard to whether issuing a new Presidential Permit reflecting the corporate succession and authorizing Plains LPG to operate and maintain the EDS Pipeline border facilities would be in the national interest. The application is available at http://www.state.gov/e/enr/c52945.htm.

FOR FURTHER INFORMATION CONTACT: Office of Energy Diplomacy, Energy Resources Bureau (ENR/EDP/EWA) Department of State 2201 C St. NW Ste 4843 Washington DC 20520 Attn: Michael Brennan Tel: 202-647-7553. Email: brennanmf @state.gov.

Dated: November 20, 2012.
Douglas R. Kramer,
Acting Director, Office of Europe, Western Hemisphere & Africa, Bureau of Energy Resources, U.S. Department of State.

[FR Doc. 2012-29376 Filed 12-4-12; 8:45 am]

BILLING CODE 4710-09-P